DEPARTMENT OF HEALTH AND HUMAN SERVICES

Health Resources and Services Administration

Advisory Committee on Training in Primary Care Medicine and Dentistry; Notice for Request for Nominations

SUMMARY: The Health Resources and Services Administration (HRSA) is requesting nominations to fill vacancies on the Advisory Committee on Training in Primary Care Medicine and Dentistry (ACTPCMD). The ACTPCMD is authorized by 42 U.S.C. 217a, section 222 and 42 U.S.C. 293l, section 749 of the Public Health Service (PHS) Act, as amended by section 5103(d) and re-designated by section 5303 of the Affordable Care Act. The Advisory Committee is governed by provisions of the Federal Advisory Committee Act of 1972 (5 U.S.C. Appendix 2), as amended, which sets forth standards for the formation and use of advisory committees.

DATES: The agency will receive nominations on a continuous basis.

ADDRESSES: All nominations should be submitted to Regina Wilson, Advisory Council Operations, Bureau of Health Workforce, HRSA, 11w45c, 5600 Fishers Lane, Rockville, Maryland 20857. Mail delivery should be addressed to Regina Wilson, Advisory Council Operations, Bureau of Health Workforce, HRSA, at the above address, or via email to: RWilson@hrsa.gov.

FOR FURTHER INFORMATION CONTACT: Joan Weiss, Ph.D., RN, CRNP, FAAN, Designated Federal Official, ACTPCMD at 301-443-0430 or email at jweiss@hrsa.gov. A copy of the current committee membership, charter and reports can be obtained by accessing the http://www.hrsa.gov/advisorycommittees/bhpradvisory/actpcmd/.

SUPPLEMENTARY INFORMATION: The ACTPCMD provides advice and recommendations to the Secretary of the U.S. Department of Health and Human Services (Secretary) on policy, program development and other matters of significance concerning the activities under sections 747 and 748, part C of title VII of the PHS act. The ACTPCMD prepares an annual report describing the activities conducted during the fiscal year, identifying findings and developing recommendations to enhance these title VII, part C, section 747 and 748 programs. The annual report is submitted to the Secretary and ranking members of the Senate Committee on Health, Education, Labor and Pensions, and the House of Representatives Committee on Energy and Commerce. The ACTPCMD also develops, publishes, and implements performance measures for programs under this part; develops and publishes guidelines for longitudinal evaluations (as described in section 761(d)(2)) for programs under this part; and recommends appropriation levels for programs under this part. Meetings are held twice a year.

Specifically, HRSA is requesting nominations for voting members of the ACTPCMD representing: Family medicine, general internal medicine, general pediatrics, physician assistant, general dentistry, pediatric dentistry, public health dentistry, and dental hygiene programs. Among these nominations, students, residents, and/or fellows from these programs are encouraged to apply.

The Department of Health and Human Services (HHS) will consider nominations of all qualified individuals with the areas of subject matter expertise noted above. Individuals may nominate themselves or other individuals, and professional associations and organizations may nominate one or more qualified persons for membership. Nominations shall state that the nominee is willing to serve as a member of the ACTPCMD and appears to have no conflict of interest that would preclude the ACTPCMD membership. Potential candidates will be asked to provide detailed information concerning financial interests, consultancies, research grants, and/or contracts that might be affected by recommendations of the ACTPCMD to permit evaluation of possible sources of conflicts of interest.

A nomination package should include the following information for each nominee: (1) A letter of nomination stating the name, affiliation, and contact information for the nominee, the basis for the nomination (i.e., what specific attributes, perspectives, and/or skills does the individual possess that would benefit the workings of ACTPCMD, and the nominee's field(s) of expertise); (2) a letter of self-interest stating the reasons the nominee would like to serve on the ACTPCMD; (3) a biographical sketch of the nominee and a copy of his/her curriculum vitae; and (4) the name, address, daytime telephone number, and email address at which the nominator can be contacted. Nominations will be considered as vacancies occur on the ACTPCMD. Nominations should be updated and resubmitted every 3 years to continue to be considered for committee vacancies.

HHS strives to ensure that the membership of HHS federal advisory committees is balanced in terms of points of view represented and the committee's function. Every effort is made to ensure that the views of women, all ethnic and racial groups, and people with disabilities are represented on HHS federal advisory committees. The Department also encourages geographic diversity in the composition of the committee. The Department encourages nominations of qualified candidates from all groups and locations. Appointment to the ACTPCMD shall be made without discrimination on the basis of age, race, ethnicity, gender, sexual orientation, disability, and cultural, religious, or socioeconomic status.

Jackie Painter,
Director, Division of the Executive Secretariat.

[FR Doc. 2015-29549 Filed 11-18-15; 8:45 am]

BILLING CODE 4165-15-P